DEPARTMENT OF JUSTICE

Office of Justice Programs

Agency Information Collection Activities: Proposed Collection; Comments Requested

ACTION: 60-Day Notice of Information Collection Under Review: Revision of a Currently Approved Collection, Fiscal Year 2003 State Domestic Preparedness Program.

The Department of Justice, Office of Justice Programs, Office for Domestic Preparedness, has submitted the following information collection request to the Office of Management and Budget (OMB) for review and approval in accordance with the Paperwork Reduction Act of 1995. The proposed information collection is published to obtain comments from the public and affected agencies. Comments are encouraged and will be accepted for “sixty days” until February 24, 2003. This process is conducted in accordance with 5 CFR 1320.10.

If you have comments especially on the estimated public burden or associated response time, suggestions, or need a copy of the proposed information collection instrument with instructions or additional information, please contact Kerry Thomas, Branch Chief, State and Local Program Management Division, Office for Domestic Preparedness, 810 Seventh Street, NW., Washington, DC 20531, phone at (202) 616-6707, or facsimile at (202) 514-5566.

Request written comments and suggestions from the public and affected agencies concerning the proposed collection of information. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information

(1) Type of information collection: Revision of a Currently Approved Collection

(2) The title of the form/collection: Fiscal Year 2003 State Domestic Preparedness Program.

(3) The agency form number, if any, the applicable component of the Department sponsoring the collection: U.S. Department of Justice (DOJ), Office of Justice Programs (OJP), Office for Domestic Preparedness (ODP).

(4) Affected Public who will be asked or required to respond, as well as a brief abstract: Primary: Federal Government, State, and Local. Section 1404 of the Defense Against Weapons of Mass Destruction Act of 1998 (Title XIV of Public Law 105-261; 50 U.S.C. 2301) as amended by Section 1064 of the National Defense Authorization Act of 2000 (Title X of Pub. L. 106-65; 50 U.S.C. 2301) authorizes the Department of Justice to collect information from state and local jurisdictions to assess the threat the risk of terrorist employment of weapons of mass destruction against cities and other local areas. This data collection will allow states to: (1) Report current jurisdictional needs for equipment, training, exercises, and technical assistance; (2) forecast projected needs for this support; and (3) identify the gaps that exist at the jurisdictional level in equipment, training, exercises, and technical assistance that OJP/ODP and other federal funding will be used to address. Additionally, the information collected will guide OJP/ODP and other federal agencies in the formulation of domestic preparedness policies and with the development of programs to enhance state and local first responder capabilities.

(5) An estimate of the total number of respondents and the amount of time estimated for an average respondent to respond/reply: The estimated total number of respondents in 2,059.

The data collection being proposed incorporates a terrorist threat and vulnerability assessment, and a needs and capabilities assessment for equipment, training, exercises and technical assistance. Information will be collected by approximately 2,003 local jurisdictions from representatives of law enforcement, fire services, Hazardous Materials response agencies, public safety communications, public health agencies, emergency medical services, public works, government/administrative agencies, health care, and emergency management agencies. In addition, a state administrative agency (SAA) in each state and territory (56 total) will roll-up the data submitted by all of the local jurisdictions in the state or territory and submit this consolidated state information to OJP/ODP. Local jurisdictions completing these assessments may experience an estimated burden of 6 hours to collect, tabulate and input data provided to the state. Once the local information is received by the SAA, the SAA may experience an estimated burden of 4 hours for data input and electronic submission of the data to OJP/ODP.

(6) An estimate of the total public burden (in hours) associated with the collection: The estimated total public burden associated with this information collection will be approximately 12,242 hours.

If additional information is required, contact: Ms. Brenda E. Dyer, Department Deputy Clearance Officer, Information Management and Security Staff, Justice Management Division, United States Department of Justice, 601 D Street NW., Patrick Henry Building, Suite 1600, NW., Washington, DC 20530.

Dated: December 18, 2002.
Brenda E. Dyer,
Department Deputy Clearance Officer, Department of Justice.

[FR Doc. 02-32327 Filed 12-23-02; 8:45 am]

BILLING CODE 4410-18-M